DEPARTMENT OF COMMERCE

National Oceanic and Atmospheric Administration

[RTID 0648-XA218]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ). Due to federal and state travel restrictions and updated guidance from the Centers for Disease Control and Prevention related to COVID-19, this meeting will be conducted entirely by webinar.

DATES: The webinar meeting will be held on Tuesday, Wednesday, and Thursday, June 23, 24, and 25, 2020, beginning at 9 a.m. on June 23 and 8:30 a.m. on June 24 and 25.

ADDRESSES: All meeting participants and interested parties can register to join the webinar at https://register.gotowebinar.com/rt/4299173335034253327.

Council address: New England Fishery Management Council, 50 Water Street, Mill 2, Newburyport, MA 01950; telephone (978) 465-0492; www.nefmc.org.

FOR FURTHER INFORMATION CONTACT: Thomas A. Nies, Executive Director, New England Fishery Management Council; telephone: (978) 465-0492, ext. 113.

SUPPLEMENTARY INFORMATION:

Agenda

Tuesday, June 23, 2020

After introductions and brief announcements, the meeting will begin with reports from the Council Chairman and Executive Director, NMFS's Regional Administrator for the Greater Atlantic Regional Fisheries Office (GARFO), liaisons from the Northeast Fisheries Science Center (NEFSC) and Mid-Atlantic Fishery Management Council, staff from the Atlantic States Marine Fisheries Commission (ASMFC), and representatives from NOAA General Counsel, NOAA's Office of Law Enforcement, the U.S. Coast Guard, and the NMFS Highly Migratory Species Advisory Panel. The Council then will discuss Executive Order 13921, Promoting American Seafood Competitiveness and Economic Growth, which President Trump issued on May 7, 2020. Next, the Council will review its list of 2020-2024 research priorities and hear the Scientific and Statistical Committee's recommendations on any suggested revisions. Following some discussion, the Council will approve the final list. Members of the public then will have the opportunity to speak during an open comment period on issues that relate to Council business but are not included on the published agenda for this meeting. The Council asks the public to limit remarks to 3-5 minutes. These comments will be received through the webinar. A guide for how to publicly comment through the webinar is available on the Council website at https://s3.amazonaws.com/nefmc.org/NEFMC-meeting-remote-participation_generic.pdf.

Following the lunch break, the Council will take up the Ecosystem-Based Fishery Management (EBFM) Committee report and receive: (1) A presentation on draft EBFM public outreach materials produced by Green Fin Studio; and (2) a progress report from the EBFM Plan Development Team on the development of tangible worked examples to demonstrate the Council's example Fishery Ecosystem Plan (eFEP) for Georges Bank. The Council then will hear from its Skate Committee, which will provide a progress report on Committee actions related to Amendment 5 to the Northeast Skate Complex Fishery Management Plan (FMP). The Council will discuss whether to pursue the development of a limited access program for the skate wing and/or bait fisheries through this amendment. The Council then will adjourn for the day.

Wednesday, June 24, 2020

The Council will begin the day by receiving a preliminary report on approaches to calculating discards that are deducted from the monkfish annual catch target to determine total allowable landings for the monkfish fishery. The presentation will be followed by Council discussion. Next, the Scallop Committee will report on four items. The first will be Amendment 21 to the Atlantic Sea Scallop FMP, which is being developed to address: (1) Northern Gulf of Maine Management Area issues, (2) the Limited Access General Category (LAGC) possession limit, and (3) individual fishing quota (IFQ) transfers. The Council will select preferred alternatives for this amendment and approve the Draft Environmental Assessment for public hearings. The Council also will discuss the timeline for this action. Second, the Council will review and approve 2021-2022 priorities for the Scallop Research Set-Aside Program. Third, the Council will initiate Framework Adjustment 33, which will include 2021 fishing year specifications and 2022 default specifications. The Council will discuss the timeline for the framework given delays in resource surveys due to the COVID-19 situation. Finally, the Scallop Committee will provide feedback on Executive Order 13921.

Following the lunch break, the Habitat Committee will report on several items with contributions from partner presenters. Agenda items include: (1) A Committee update on the development of habitat policies for aquaculture, submarine cables, and floating offshore wind technology; (2) an update on the Northeast Regional Marine Fish Habitat Assessment; (3) a Bureau of Ocean Energy Management (BOEM) briefing on the June 2020 Supplemental Environmental Impact Statement for the Vineyard Wind project and other BOEM updates; (4) a NOAA Fisheries briefing on the Habitat Climate Vulnerability Assessment for the Northeast Region; and (5) an update from the Responsible Offshore Science Alliance. Next, the Council will receive a progress report on the collaborative effort between the Northeast Regional Ocean Council and the Responsible Offshore Development Alliance to update commercial fisheries data on the Northeast and Mid-Atlantic Ocean Data Portals. The Council will spend the remainder of the afternoon on the Atlantic Herring Committee report, which will cover three items. The Council will receive an update on Framework Adjustment 7 to the Atlantic Herring FMP, which is being developed to protect spawning herring on Georges Bank. As part of this agenda item, the Council will receive a report on a recent leadership conference call that was held with ASMFC to discuss Atlantic herring management. The Council also will receive an update on Framework Adjustment 8, which includes fishing year 2021-2023 specifications. The Council potentially may approve the range of alternatives being developed as part of this framework to adjust measures in the Atlantic Herring FMP that may inhibit the Atlantic mackerel fishery from achieving optimum yield. Finally, the Council will receive Herring Committee feedback on Executive Order 13921. After this discussion, the Council will adjourn for the day.

Thursday, June 25, 2020

The Council will begin the day with the Small-Mesh Multispecies (Whiting) Report. The Council is expected to take final action on Framework Adjustment 62 to the Northeast Multispecies FMP, which focuses on measures to rebuild southern red hake. The Whiting Committee also will provide feedback to the Council on Executive Order 13921. Next, the Council will receive an overview of the Atlantic Cod Stock Structure Working Group report, which will be followed by a presentation on the peer review of report. The Council will discuss the report and peer review findings. The GARFO Regional Administrator then will provide a briefing on a petition for rulemaking on Atlantic cod and request that the Council consult with NMFS on this matter. The Council will engage in a discussion on how to address issues in the petition that may have merit.

Following the lunch break, the Council will spend the full afternoon on the Groundfish Committee report, which includes several items. The Council will receive an overview of comments received during recent webinar public hearings for Groundfish Monitoring Amendment 23 and then discuss next steps and the timeline for final action. In a follow-up to the April meeting, the Council will discuss and potentially approve Groundfish Committee recommendations for adjustments to commercial and recreational measures to mitigate the impacts of the COVID-19 pandemic. This discussion may include a possible request for secretarial emergency action for measures related to commercial carry-over provisions, as well as recreational measures for Gulf of Maine haddock and cod. The Council also will initiate Framework Adjustment 61 to the Northeast Multispecies FMP, which will include: total allowable catches for U.S./Canada stocks of Eastern Georges Bank (GB) cod, Eastern GB haddock, and GB yellowtail flounder; 2021-2023 specifications for roughly half of the groundfish stocks; and other measures. Finally, the Groundfish Committee will provide feedback on Executive Order 13921. The Council then will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is being conducted entirely by webinar. Requests for auxiliary aids should be directed to Thomas A. Nies (see ADDRESSES) at least 5 days prior to the meeting date.

Authority: 16 U.S.C. 1801 et seq.

Dated: June 2, 2020.
Tracey L. Thompson,
Acting Deputy Director, Office of Sustainable Fisheries, National Marine Fisheries Service.

[FR Doc. 2020-12215 Filed 6-4-20; 8:45 am]

BILLING CODE 3510-22-P